SMALL BUSINESS ADMINISTRATION

Revocation of License of Small Business Investment Company

Pursuant to the authority granted to the United States Small Business Administration by the Final Order of the United States District Court for the Southern District of New York, entered February 2, 2015, the United States Small Business Administration hereby revokes the license of WAV, L.P., a Delaware Limited Partnership, to function as a small business investment company under the Small Business Investment Company License No. 02720569 issued to WAV, L.P., on November 1, 1996, and said license is hereby declared null and void as of February 2, 2015.

United States Small Business Administration.
Dated: September 17, 2015.
Javier E. Saade,
Associate Administrator for Investment.

[FR Doc. 2015-24112 Filed 9-22-15; 8:45 am]

BILLING CODE 8025-01-P